DEPARTMENT OF HEALTH AND HUMAN SERVICES

Administration for Community Living

Agency Information Collection Activities; Proposed Collection; Public Comment Request; Independent Living Services (ILS) Program Performance Report (PPR) 0985-0043

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This Extension of a Currently Approved Collection (ICR Rev) solicits comments on the information collection requirements related to the Independent Living Services (ILS) Program Performance Report (PPR).

DATES: Comments on the collection of information must be submitted electronically by 11:59 p.m. (EST) or postmarked by February 16, 2021.

ADDRESSES: Submit electronic comments on the information collection request to: Peter Nye at OILPPRAComments@acl.hhs.gov. Submit written comments on the collection of information to Administration for Community Living, Washington, DC 20201, Attention: Peter Nye.

FOR FURTHER INFORMATION CONTACT: Peter Nye, Administration for Community Living, Washington, DC 20201, (202) 795-7606, or peter.nye@acl.hhs.gov.

SUPPLEMENTARY INFORMATION: Under the PRA (44 U.S.C. 3501-3520), Federal agencies must obtain approval from the Office of Management and Budget (OMB) for each collection of information they conduct or sponsor. “Collection of information” includes agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The Independent Living Services (ILS) program provides financial assistance, through formula grants, to states, the District of Columbia, Puerto Rico, American Samoa, the Commonwealth of the Northern Mariana Islands, Guam, and the US Virgin Islands for expanding, and improving the provision of, independent living (IL) services. The Designated State Entity (DSE) is the agency that, on behalf of the state, receives, accounts for, and disburses funds received under Part B of the Rehabilitation Act of 1973, as amended (the Act). Funds are also made available for the provision of training and technical assistance to Statewide Independent Living Councils (SILCs). The Act permits an annual program performance report (PPR). This request is for the ILS PPR, which is submitted annually by the SILC and DSE in every state, territory, and commonwealth. ACL uses the ILS PPR to assess grantee compliance with title VII of the Act, with 45 CFR part 1329 of the Code of Federal Regulations, and with applicable provisions of the HHS Regulations at 45 CFR part 75. The ILS PPR serves as the primary basis for ACL's monitoring activities in fulfillment of its responsibilities under sections 706 and 722 of the Act. ACL also uses the PPR to identify training and technical assistance needs for SILCs and centers for independent living.

To view the data collection activity for this information collection request, please visit the ACL public input website: https://www.acl.gov/about-acl/public-input.

Estimated Program Burden

ACL estimates the burden of this collection of information as follows: Fifty-six jurisdictions—specifically, the fifty states, Puerto Rico, the District of Columbia, American Samoa, the Commonwealth of the Northern Mariana Islands, Guam, and the US Virgin Islands—will each complete ILS PPRs annually, and it will take an estimated thirty-five hours per jurisdiction per ILS PPR. Each jurisdiction's SILC and DSE will collaborate to complete the ILS PPR. The fifty-six jurisdictions, combined, will take an estimated 1,960 hours per year to complete ILS PPRs. This burden estimate is based on what DSEs and SILCs have told ACL about how long filling out ILS PPRs took in previous reporting years.

Respondent/data collection activity | Number of respondents | Responses per respondent | Hours per response | Total annual burden hours
SILCs and DSEs | 56 | 1 | 35 | 1,960

Dated: December 10, 2020.
Mary Lazare,
Principal Deputy Administrator.

[FR Doc. 2020-27734 Filed 12-16-20; 8:45 am]

BILLING CODE 4154-01-P